ENVIRONMENTAL PROTECTION AGENCY

40 CFR Part 52

[EPA-R09-OAR-2015-0280; FRL-9935-41-Region 9]

Revisions to California State Implementation Plan; Bay Area Air Quality Management District; Stationary Source Permits; Reopening of Comment Period

AGENCY: Environmental Protection Agency (EPA).

ACTION: Proposed rule; reopening of comment period.

SUMMARY: EPA is reopening the comment period on a proposed limited approval and limited disapproval published on August 28, 2015 (80 FR 52236).

DATES: Any comments on this proposal must arrive by November 12, 2015.

ADDRESSES: Submit comments, identified by Docket ID Number EPA-R09-OAR-2015-0280, by one of the following methods:

1. Federal eRulemaking Portal: www.regulations.gov. Follow the on-line instructions.

2. Email: R9airpermits@epa.gov.

3. Mail or deliver: Gerardo Rios (Air-3), U.S. Environmental Protection Agency, Region 9, 75 Hawthorne Street, San Francisco, CA 94105-3901. Deliveries are only accepted during the Regional Office's normal hours of operation.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an anonymous access system, and EPA will not know your identity or contact information unless you provide it in the body of your comment. If you send email directly to EPA, your email address will be automatically captured and included as part of the public comment. If EPA cannot read your comment due to technical difficulties and cannot contact you for clarification, EPA may not be able to consider your comment.

Docket: Generally, documents in the docket for this action are available electronically at www.regulations.gov and in hard copy at EPA Region 9, 75 Hawthorne Street, San Francisco, California. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Shaheerah Kelly, EPA Region 9, (415) 947-4156, kelly.shaheerah@epa.gov.

SUPPLEMENTARY INFORMATION: On August 28, 2015, EPA proposed a limited approval and limited disapproval of the following rules for the Bay Area Air Quality Management District (BAAQMD) portion of the California State Implementation Plan (SIP).

Table 1—Submitted Rules
Regulation & Rule No. | Rule title | Adopted/amended | Submitted
Regulation 2, Rule 1 (2-1) | Permits, General Requirements | 12/19/12 | 4/22/13
Regulation 2, Rule 2 (2-2) | Permits, New Source Review | 12/19/12 | 4/22/13

The proposed rule provided a 30-day public comment period. In response to a request from BAAQMD submitted by letter on September 21, 2015, EPA is reopening the comment period for an additional 45 days.

Dated: September 28, 2015.
Jared Blumenfeld,
Regional Administrator, Region IX.

[FR Doc. 2015-25834 Filed 10-8-15; 8:45 am]

BILLING CODE 6560-50-P